DEPARTMENT OF HEALTH AND HUMAN SERVICES

Centers for Disease Control and Prevention

[60Day-07-0566]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Use of a Reader Response Postcard for Workers Notified of Results of Epidemiologic Studies Conducted by the National Institute for Occupational Safety and Health (NIOSH)—Reinstatement—National Institute for Occupational Safety and Health (NIOSH), Centers for Disease Control and Prevention (CDC).

Background and Brief Description

NIOSH, under Section 20(a)(1), (a)(4), (a)(7)(c), and Section 22 (d), (e)(5)(7) of the Occupational Safety and Health Act (29 U.S.C. 669), has the responsibility to “conduct (directly or by grants or contracts) research, experiments, and demonstrations relating to occupational safety and health, including studies of psychological factors involved, and relating to innovative methods, techniques, and approaches for dealing with occupational safety and health problems.” NIOSH also has the responsibility to “conduct special research, experiments, and demonstrations relating to occupational safety and health as are necessary to explore new problems, including those created by new technology in occupational safety and health [e.g., worker notification], which may require ameliorative action beyond that which is otherwise provided for in the operating provisions of the Act”.

Since 1977, the National Institute for Occupational Safety and Health (NIOSH) has been developing methods and materials for the notification of subjects of its epidemiological studies. NIOSH involvement in notifying workers of past exposures relates primarily to informing surviving cohort members of the findings of retrospective cohort studies conducted by NIOSH. Current policy within NIOSH is to notify subjects of the results of its epidemiologic studies. The extent of the notification effort depends upon the level of excess mortality or the extent of the disease or illness found in the cohort. Current notification efforts range from posting results at the facilities studied to mailing individual letter notifications to surviving cohort members and other stakeholders. The Industry wide Studies Branch (IWSB) of NIOSH, Division of Surveillance, Hazard Evaluation, and Field Studies (DSHEFS), usually conducts about two or three notifications per year, which typically require individual letters mailed to cohorts ranging in size from 200-20,000 workers each. In order to assess the effectiveness of the notification materials received by the recipients and to improve future communication of risk information, the evaluation instrument proposed was developed.

The NIOSH Institute-wide Worker Notification Program routinely notifies subjects about the results of epidemiologic studies and the implications of the results. The overall purpose of the proposed project is to gain insight into the effectiveness of NIOSH worker notification in order to improve the quality and usefulness of the Institute's worker notification activities. Researchers from the NIOSH Division of Surveillance, Hazard Evaluations and Field Studies (DSHEFS) propose to provide notified workers with a Reader Response postcard for routinely assessing notified study subjects' responses to individual letter notification materials sent to them by NIOSH. We are requesting approval for three years. Participation is voluntary and there is no cost to respondents except for their time.

Estimated Annualized Burden Hours
Form name | Number of respondents | Number of responses per respondent | Average burden response (in hours) | Total burden (in hours)
Reader Response Card | 8,000 | 1 | 10/60 | 1,333

Dated: May 18, 2007.
Maryam I. Daneshvar,
Acting Reports Clearance Officer, Centers for Disease Control and Prevention.

[FR Doc. E7-10030 Filed 5-23-07; 8:45 am]

BILLING CODE 4163-18-P